DEPARTMENT OF ENERGY

Federal Energy Regulatory Commission

[Project No. 2696-000]

Town of Stuyvesant and Stuyvesant Falls Hydro Corporation; Notice of Intent To File an Application for a New License

August 2, 2005.

a. Type of Filing: Notice of intent to file an application for a new license.

b. Project No.: P-2696-000.

c. Date Filed: July 22, 2005.

d. Submitted by: Town of Stuyvesant and Stuyvesant Falls Hydro Corporation—current licensees.

e. Name of Project: Stuyvesant Falls Hydroelectric Project.

f. Location: On Kinderhook Creek, partly within the Town of Stuyvesant, in Columbia County, New York. The project does not utilize Federal lands.

g. Filed Pursuant to: Section 15 of the Federal Power Act

h. Licensee Contact: James A. Besha, P.E., Albany Engineering Corporation, 447 New Karner Road, Albany, NY 12205, (518) 456-7712.

i. FERC Contact: Stefanie Harris, stefanie.harris@ferc.gov, (202) 502-6653.

j. Effective date of current license: May 1, 1965.

k. Expiration date of current license: July 31, 2005.

l. Description of the Project: The project consists of the following existing facilities: (1) A 13-foot-high, 240-foot-long masonry gravity dam with a Taintor gate and trash sluice near the south abutment; (2) a 46-acre reservoir with a normal pool elevation of 174.3 feet USGS; (3) two 7.5-foot-diameter, 2,860-foot-long, riveted-steel pipelines; (4) a 25-foot-diameter surge tank; (5) two 200-foot-long steel penstocks; (6) a powerhouse containing a single 2.8-megawatt generating unit; and (7) other appurtenances.

m. Pursuant to 18 CFR 16.8, 16.9, and 16.10 each application for a new license and any competing license applications must be filed with the Commission at least 24 months prior to the expiration of the existing license. However, as a result of Public Law No. 108-137, which was signed by President Bush on December 1, 2003, the Commission issued an order on December 30, 2003 (105 FERC ¶ 62,231) that reinstated the previously-surrendered project license, with its original expiration date of July 31, 2005, and transferred the license to the current co-licensees, Town of Stuyvesant and Stuyvesant Falls Hydro Corporation.

Under normal circumstances, the relicensing process would have commenced with the licensee filing, by at least five years prior to the end of the license term (July 2000), a notice of intent to seek or not to seek a new license. However, the surrender of the original license for the project became effective on February 17, 1999, prior to the notice of intent deadline. The co-licensees filed the notice of intent on July 22, 2005, stating their intent to seek relicensing of the project and their intent to use the Traditional Licensing Process in preparing their relicense application. The December 30, 2003 Commission Order stated that the Commission would issue a notice establishing a relicensing schedule for the project, and given these unusual circumstances, the Commission will proceed in accordance with the following schedule.

n. The relicensing process will proceed according to the following schedule. Revisions to the schedule will be made as appropriate.

Activity | Deadline
Distribution of Initial Consultation Package | September 30, 2005.
Stage One Consultation Joint Meeting | November 30, 2005.
Distribution of Draft New License Application (inclusive of any study results and the applicant's responses to any consulted entities comments and recommendations made during stage one consultation) | August 31, 2006.
Filing of New License Application and Competing License Applications | January 31, 2007.

o. After the filing of the new license application, a copy of the application will be available for review at the Commission in the Public Reference Room or may be viewed on the Commission's Web site at http://www.ferc.gov using the “eLibrary” link. Enter the docket number excluding the last three digits in the docket number field to access the document. For assistance, call FERC Online Support at FERCOnlineSupport@ferc.gov or toll-free at 1-866-208-3676, or for TTY, (202) 502-8659. A copy will be also available for inspection and reproduction at the address in item h above.

p. You may also register online at http://www.ferc.gov/docs-filing/esubscription.asp to be notified via e-mail of new filings and issuances related to this or other pending projects. For assistance, contact FERC Online Support as shown in the paragraph above.

q. By this notice, the Commission is seeking corrections and updates to the attached mailing list for the Stuyvesant Falls Project. Updates should be filed with Magalie R. Salas, Secretary, Federal Energy Regulatory Commission, 888 First Street, NE., Washington, DC 20426.

Magalie R. Salas,
Secretary.

Attached Mail List for P-2696

Stuyvesant Falls Project

Office of Project Review, Advisory Council on Historic Pres., The Old Post Office Building, 1100 Pennsylvania Ave, NW., Ste 809, Washington, DC 20004-2501.

Andrew Fahlund, Director of Hydropower Dev., American Rivers, 1025 Vermont Ave, NW., Ste 720, Washington DC 20005-3577.

Town Official, Colonie, New York, Town of, Colonie Memorial Town Hall, Newtonville, NY 12128.

Donald T. La Valley, Director, Columbia County Sportmans Federation, 318 Union St, Hudson, NY 12534-2412.

County Clerk, Columbia, County of, Board of County Legislators, 401 State St, Hudson, NY 12534-1915.

State of New York, Geologist, Cultural Education Center, Geological Survey, Albany, NY 12230-0001.

Executive Director, Delaware River Basin Commission, PO Box 7360, West Trenton, NJ 08628-0360.

Orion Power New York, Erie Boulevard Hydropower, L.P., 225 Greenfield Pkwy, Ste 201, Liverpool, NY 13088-6656.

Jacob S Niziol, Coordinator, Orion Power New York, 225 Greenfield Pkwy, Ste 201, Liverpool, NY 13088-6656.

Jerry L Sabattis, Coordinator, Orion Power New York, 225 Greenfield Pkwy, Ste 201, Liverpool, NY 13088-6656.

Mitchell F Hertz, Esquire, Kirkland & Ellis, 655 15th St, NW., Ste 1200, Washington, DC 20005-5720.

William J Madden Jr., Winston & Strawn LLP, 1400 L Street, NW., Washington, DC 20005.

Regional Engineer, New York Regional Office, 19 W 34th St., Rm 400, New York, NY 10001-3006.

James A Besha, Director, Fourth Branch Assoc (Mechanicville), 447 New Karner Road, Albany, NY 12205-3821.

Frances E Francis, Esquire, Spiegel & McDiarmid, 1333 New Hampshire Ave, NW., Washington, DC 20036-1511.

Joseph M. Aiello, City Admin., Fulton, City of, 141 S 1st St, Fulton, NY 13069-1772.

Donald W. Bullard, Mayor, Fulton, City of, 141 S 1st St, Fulton, NY 13069-1772.

Paul V Nolan, 5515 17th St, N., Arlington, VA 22205-2722.

County Clerk, 300 Taconite St, Ste 101, Hurley, WI 54534-1546.

State of New York, Director, Marine Sciences Research Center, State University of New York, Stony Brook, NY 11794-0001.

Regional Director, National Marine Fisheries Service, Northeast Regional Office-DOC/NOAA 1 Blackburn Dr, Gloucester, MA 01930-2237.

Michael Ludwig, National Marine Fisheries Service, 212 Rogers Ave, Milford, CT 06460-6478.

Tim Goodger, National Marine Fisheries Service, 904 S Morris St, Oxford, MD 21654-1323.

C. Wilkerson, National Park Service, Northeast Region-U.S. Custom House, 200 Chestnut St, Philadelphia, PA 19106-2912.

Director, Environ. Protection-Science Section, Justice Bldg.-The Capital, Albany, NY 12224.

Program Manager, Regional Planning, 333 E Washington St, Syracuse, NY 13202-1422.

Mark E Frechette, P.E., New York Department of Transportation, Dulles State Office Building, 317 Washington St., Watertown, NY 13601-3744.

Director, Region 4, 1530 Jefferson Rd, Rochester, NY 14623-3110.

State of New York, Director, New York Dept. of Public Service, 3 Empire State Plz, Albany, NY 12223-1000.

Janet Hand Deixler, Secretary, New York Public Service Commission, 3 Empire State Plz, Albany, NY 12223-1000 .

Bruce R Carpenter, Executive Director, New York Rivers United, PO Box 1460, Rome, NY 13442-1460.

Richard Roos-Collins, Senior Attorney, Natural Heritage Institute, 100 Pine St Ste 1550, San Francisco, CA 94111-5117.

Lawrence J Frame, Director, New York State Canal Corporation, Office of Canals—Thruway Admin. Hdqtrs., 200 Southern Blvd, Albany, NY 12209-2018.

William Clarke, Manager, New York State Dept. of Environ. Conserv., 1150 N Westcott Rd, Schenectady, NY 12306-2014.

Mark S. Woythal, New York State Dept. of Environ. Conserv., Instream Flow Unit, 625 Broadway, Albany, NY 12233-4756.

Lenore Kuwik, Bureau Chief, New York State Dept. of Environ. Conserv., 625 Broadway, 4th Floor, Division of Environmental Permits, Albany, NY 12233-0001.

Unit Director, New York State Dept. of Environ. Conserv., Dam Safety Unit, Division of Water, 625 Broadway, Albany, NY 12233-0001.

William G Little, Associate Attorney, New York State Dept. of Environ. Conserv., 625 Broadway, Floor 14, Albany, NY 12233-1500.

John J Gosek, Mayor, Oswego, City of, Office of the Mayor, City Hall, 11 West Oneida Street, Oswego, NY 13126.

Tod A Grenci, Stuyvesant Falls, Town of, 3571 Route 21, Stuyvesant Falls, NY 12173.

Robert D Kuhn, New York State Historic Preservation Off., PO, Box 189, Waterford, NY 12188-0189.

Stephen C Palmer, Swidler Berlin Shereff Friedman, LLP, 3000 K St, NW., Ste 300, Washington, DC 20007-5101.

District Engineer, US Army Corps of Engineers, NY District-Jacob Javits Fed. Bldg., 26 Federal Plz, New York, NY 10278-0004.

Regulatory Branch, US Army Corps of Engineers, Buffalo District, 1776 Niagara St, Buffalo, NY 14207-3111.

Commander, North Atlantic Division—CENAD-ET-P, 405 Gen. Lee Ave., Fort Hamilton Mil. Com., Brooklyn, NY 11252-6700.

Chief Engineer, US Army Corps of Engineers, North Central Office, 111 N Canal St, Lobby 6, Chicago, IL 60606-7291.

Dr. James T Kardatzke, Ecologist, US Bureau of Indian Affairs, Eastern Regional Office, Nashville, TN 37214-2751.

Fred Allgaier, U.S. Bureau of Indian Affairs, 3000 Youngfield St., Ste. 130, Lakewood, CO 80215-6562.

Commanding Officer, U.S. Coast Guard, MSO Long Island Sound, 120 Woodward Ave., New Haven, CT 06512-3628.

Commanding Officer, U.S. Coast Guard, MSO Buffalo, 1 Fuhrmann Blvd., Buffalo, NY 14203-3105.

Sherry W. Morgan, U.S. Fish and Wildlife Service, 3817 Luker Rd., Cortland, NY 13045-9385.

Alexander R. Hoar, U.S. Fish and Wildlife Service, 300 Westgate Center Dr., Hadley, MA 01035-9587.

Lydia T Grimm, U.S. Department of the Interior, 1849 C St. NW., # MS6456, Office of the Solicitor, Washington, DC 20240-0001.

Judith M. Stolfo, U.S. Department of the Interior, 1 Gateway Ctr., Ste. 612, Newton, MA 02458-2881.

Director, Control & Planning Division, 1220 Washington Ave., Albany, NY 12232-0002.

Director, Water Quality Branch (WQB), JFK Federal Building, Boston, MA 02203-0002.

Grace Musumeci, Section Chief, U.S. Environmental Protection Agency, Region 2, 290 Broadway, Fl. 25, New York, NY 10007-1823.

David A Stilwell, Supervisor, U.S. Fish and Wildlife Service, 3817 Luker Rd., Cortland, NY 13045-9385.

Hillary Rodham Clinton, Honorable, U.S. Senate, Washington, DC 20510.

Charles Schumer, Honorable, U.S. Senate, Washington, DC 20510.

[FR Doc. E5-4318 Filed 8-9-05; 8:45 am]

BILLING CODE 6717-01-P